DEPARTMENT OF THE TREASURY

Customs Service

[T.D. 01-23]

Customs Broker License Revocations

AGENCY: U.S. Customs Service, Department of the Treasury.

I, as Assistant Commissioner, Office of Field Operations, pursuant to section 641 of the Tariff Act of 1930, as amended (19 U.S.C. 1641), and the Customs Regulations (19 CFR 111), hereby revoke the following customs broker's licenses based on the authority as annotated:

Name | Port | License No. | Authority
Gilbert International, Inc | New York | 14888 | 19 CFR 111.45(a)
Flandorffer Associates, Inc | New York | 10351 | 19 CFR 111.45(a)
Jagro California, Inc | Los Angeles | 13937 | 19 CFR 111.45(a)

Bonni G. Tischler,
Assistant Commissioner, Office of Field Operations.

[FR Doc. 01-6335 Filed 3-13-01; 8:45 am]

BILLING CODE 4820-02-P